DEPARTMENT OF AGRICULTURE

National Agricultural Statistics Service

Notice of Reinstatement of the Agricultural Labor Survey Previously Scheduled for October 2020

AGENCY: National Agricultural Statistics Service, USDA.

ACTION: Reinstatement of the Agricultural Labor Survey Previously Scheduled for October 2020.

SUMMARY: The National Agricultural Statistics Service (NASS) announces the reinstatement of the Agricultural Labor Survey previously scheduled for October 2020 and the associated publication previously scheduled for November 2020. NASS is reinstating the previously suspended information collection pursuant to a recent federal court order. See United Farm Workers v. Perdue, No. 20-cv-01452-DAD-JLT (E.D. Cal. Oct. 28, 2020) (order granting TRO and preliminary injunction).

FOR FURTHER INFORMATION CONTACT: Kevin L. Barnes, Associate Administrator, National Agricultural Statistics Service, U.S. Department of Agriculture, (202)720-2707.

SUPPLEMENTARY INFORMATION: Title: Agricultural Labor Survey.

OMB Control Number: 0535-0109.

Expiration Date of Approval: February 28, 2022.

This notice announces NASS's intention to end the suspension of the Agricultural Labor Survey previously scheduled for October 2020, and the associated publication previously scheduled for November 2020. The suspension notice (OMB No. 0535-0109) was published in the Federal Register on September 30, 2020. That suspension notice was challenged in federal court; the court recently issued a preliminary injunction ordering NASS to reinstate the data collection previously scheduled for October 2020. See United Farm Workers v. Perdue, No. 20-cv-01452-DAD-JLT (E.D. Cal. Oct. 28, 2020). Pursuant to the court's order, NASS issues this notice of reinstatement. The reinstated survey will be based on July and October reference weeks and completion of the survey and report is expected to require nine weeks following the Federal Register publication of this notice. If the court's order is modified or dissolved in the future, NASS will publish a subsequent notice informing the public of that development as well as NASS's intentions regarding this information collection.

Authority: These data are collected under authority of 7 U.S.C. 2204(a). Individually identifiable data collected under this authority are governed by Section 1770 of the Food Security Act of 1985, 7 U.S.C. 2276, which requires USDA to afford strict confidentiality to non-aggregated data provided by respondents.

Signed at Washington, DC, December 4, 2020.
Kevin L. Barnes,
Associate Administrator.

[FR Doc. 2020-27109 Filed 12-9-20; 8:45 am]

BILLING CODE 3410-20-P